DEPARTMENT OF COMMERCE

International Trade Administration

[A-570-848]

Freshwater Crawfish Tail Meat From the People's Republic of China: Notice of Partial Rescission of New Shipper Antidumping Duty Review

AGENCY: Import Administration, International Trade Administration, Department of Commerce.

ACTION: Notice of Partial Recission of New Shipper Antidumping Duty Review.

EFFECTIVE DATE: August 4, 2000.

SUMMARY: On November 15, 1999, the Department of Commerce (the Department) published in the Federal Register (64 FR 61833) a notice announcing the initiation of six new shipper reviews of the antidumping duty order on freshwater crawfish tail meat (crawfish) from the People's Republic of China (PRC), covering the period September 1, 1998 through August 31, 1999. One new shipper review is now being rescinded as a result of the withdrawal of request for a new shipper antidumping duty review by Yixing Ban Chang Foods Co., Ltd. (Yixing).

FOR FURTHER INFORMATION CONTACT: Thomas Gilgunn, AD/CVD Enforcement Group III, Import Administration, U.S. Department of Commerce, 14th Street and Constitution Avenue, N.W., Washington, D.C. 20230, telephone: (202) 482-0648.

SUPPLEMENTARY INFORMATION:

Background

On September 19, 1999, Yixing, an exporter of the subject merchandise, requested an new shipper review of the antidumping duty order on crawfish from the PRC in accordance with 19 CFR 351.214(b). On November 14, 1999, in accordance with 19 CFR 351.221(c)(1)(i), we initiated a new shipper review of this order for the period September 1, 1998 through August 31, 1999. On February 25, 2000, Yixing withdrew its request for this review.

Rescission of Review

The Department's regulations at 19 CFR 351.214(f)(1) provide that a party may withdraw its request for review within 60 days of the date of publication of the notice of initiation of the requested review. Although Yixing's request for withdrawal was more than 60 days from the date of initiation, consistent with the Department's past practice in context of administrative reviews conducted under section 751(a) of the Act, the Department has discretion to extend the time period for withdrawal on a case-by-case basis. (See e.g. Iron Construction Casings from Canada: Notice of Rescission of Antidumping Duty Administrative Review, 63 FR 45797 (August 27, 1998).) Rescission of this review would not prejudice any party in this proceeding, as Yixing would continue to be included in the PRC-wide rate to which it was subject at the time of its request for this new shipper review. Yixing is the only party that requested a review of Yixing of its sales for the September 1, 1998 through August 31, 1999 period and no other party has objected to its withdrawal of that request. Therefore, we are rescinding this review. This determination is issued and published in accordance with section 751 of the Tariff Act of 1930, as amended (19 U.S.C. 1675) and 19 CFR 351.214(f).

Dated: June 22, 2000.
Troy H. Cribb,
Acting Assistant Secretary for Import Administration.

[FR Doc. 00-19828 Filed 8-3-00; 8:45 am]

BILLING CODE 3510-DS-P